FARM CREDIT SYSTEM INSURANCE CORPORATION

Regular Meeting

AGENCY: Farm Credit System Insurance Corporation Board.

ACTION: Regular meeting.

SUMMARY: Notice is hereby given of the regular meeting of the Farm Credit System Insurance Corporation Board (Board).

Date and Time: The meeting of the Board will be held at the offices of the Farm Credit Administration in McLean, Virginia, on December 9, 2010, from 12:30 p.m. until such time as the Board concludes its business.

FOR FURTHER INFORMATION CONTACT: Roland E. Smith, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Open Session

A. Approval of Minutes

• September 8, 2010.

B. Business Reports

• September 30, 2010 Financial Reports.

• Report on Insured and Other Obligations.

• Quarterly Report on Annual Performance Plan.

C. New Business

• Board Meeting Schedule 2011.

• FCSIC Policy Statement Concerning Equal Employment Opportunity and Diversity.

Closed Session

• Confidential Report on System Performance.

• Audit Plan for the Year Ended December 31, 2010.

Dated: December 2, 2010.
Roland E. Smith,
Secretary, Farm Credit System Insurance Corporation Board.

[FR Doc. 2010-30645 Filed 12-6-10; 8:45 am]

BILLING CODE 6710-01-P